ENVIRONMENTAL PROTECTION AGENCY

[FRL-9951-61-Region 2]

Proposed Settlement Pursuant to Section 122(h)(1) of CERCLA Relating to the Newstead Superfund Site, in the Town of Newstead, Erie County, New York.

AGENCY: Environmental Protection Agency (EPA).

ACTION: Notice; request for public comment.

SUMMARY: In accordance with Section 122(i) of the Comprehensive Environmental Response, Compensation, and Liability Act of 1980, as amended (“CERCLA”), 42 U.S.C. 9622(i), notice is hereby given by the U.S. Environmental Protection Agency (“EPA”), Region 2, of a proposed settlement agreement pursuant to Section 122(h) of CERCLA, entered into by and EPA, Region 2, and The Sherwin-Williams Company, (“Settling Party”), pertaining to the Newstead Superfund Site (“Site”) located in the Town of Newstead, Erie County, New York. Under the Settlement Agreement, the Settling Party agrees to pay EPA $1,000,000.00 in reimbursement of past response costs incurred at the Site.

The Settlement Agreement includes a covenant by EPA not to sue or to take administrative action against the Settling Party pursuant to Section 107(a) of CERCLA, 42 U.S.C. 9607(a), with regard to Past Response Costs as defined in the Settlement Agreement. For thirty (30) days following the date of publication of this notice, EPA will receive written comments relating to the Settlement Agreement. EPA will consider all comments received and may modify or withdraw its consent to the Settlement Agreement if comments received disclose facts or considerations that indicate that the proposed Settlement Agreement is inappropriate, improper or inadequate. EPA's response to any comments received will be available for public inspection at EPA Region 2 offices, 290 Broadway, New York, New York 10007-1866.

DATES: Comments must be submitted on or before September 28, 2016.

ADDRESSES: The proposed Settlement Agreement is available for public inspection at EPA Region 2 offices at 290 Broadway, New York, New York 10007-1866. A copy may also be obtained from Meredith D. Fishburn, Attorney-Advisor, Office of Enforcement & Compliance, Office of Site Remediation Enforcement, U.S. Environmental Protection Agency, 1200 Pennsylvania Ave NW., Washington, DC 20460, 202-564-4790, fishburn.meredith@epa.gov. Comments should reference the Newstead Superfund Site, Town of Newstead, Erie County, New York., Index No. CERCLA-02-2016-2015 and should be sent by mail or email to Meredith Fishburn, Newstead Superfund Site Attorney, at the above address.

FOR FURTHER INFORMATION CONTACT: Meredith D. Fishburn, Attorney-Advisor, Office of Enforcement & Compliance, Office of Site Remediation Enforcement, U.S. Environmental Protection Agency, 1200 Pennsylvania Ave NW., Washington, DC 20460, 202-564-4790, fishburn.meredith@epa.gov.

Dated: August 18, 2016.
Walter Mugdan,
Director, Emergency and Remedial Response Division, U.S. Environmental Protection Agency, Region 2.

[FR Doc. 2016-20657 Filed 8-26-16; 8:45 am]

BILLING CODE 6560-50-P